DEPARTMENT OF HEALTH AND HUMAN SERVICES

Administration for Children and Families

45 CFR Parts 301, 302, 303, 304, 305, 307, 308, 309, and 310

[Docket Number ACF-2024-30987]

RIN 0970-AD06

Name Change From Office of Child Support Enforcement to Office of Child Support Services; Reopening of Comment Period and Delaying Effective Date

AGENCY: Office of Child Support Services (OCSS), Administration for Children and Families (ACF), Department of Health and Human Services (HHS).

ACTION: Direct final rule; reopening of comment period and delaying effective date.

SUMMARY: The Department of Health and Human Services (HHS or Department) published a direct final rule entitled “Name Change From Office of Child Support Enforcement to Office of Child Support Services” in the Federal Register on December 31, 2024, which was to become effective March 3, 2025. HHS is reopening the public comment period and delaying the effective date for the purpose of reviewing any questions of fact, law, and policy that the rule may raise.

DATES: The comment period for the direct final rule published at 89 FR 107015 on December 31, 2024, is reopened. Comments should be received on or before March 31, 2025. As of February 27, 2025, the effective date of the direct final rule published at 89 FR 107015 on December 31, 2024, is delayed to April 28, 2025, without further action, unless adverse comments are received. If adverse comments are received, a timely notification of withdrawal will be published in the Federal Register.

ADDRESSES: Submit comments, identified by agency name and Docket No. ACF-2024-30987, by any of the following methods:

Electronic Submissions

Submit electronic comments in the following way:

• Federal eRulemaking Portal: https://www.regulations.gov. Follow the instructions for submitting comments.

Written Submissions

Submit written submissions in the following ways:

• Mail: Office of Child Support Services, Attention: Director of Policy and Training, 330 C Street SW, Washington, DC 20201.

Instructions: All submissions received must include the agency name and Docket No. for this rulemaking. All comments received may be posted without change to https://www.regulations.gov, including any personal information provided.

Docket: For access to the docket to read background documents or comments received, go to https://www.regulations.gov and follow the instructions provided for conducting a search, using the docket number(s) found in brackets in the heading of this document.

FOR FURTHER INFORMATION CONTACT: Tavaughn McKenny, Program Specialist, OCSS Division of Policy and Training, at ocss.dpt@acf.hhs.gov or (202) 565-0129. Telecommunications Relay users may dial 711 first.

SUPPLEMENTARY INFORMATION: The purpose of the direct final rule was to make child support regulations consistent with recent rulemaking and updated Tribal child support processes and reporting. This direct final rule makes technical updates to reflect the current name of the child support program, Office of Child Support Services (OCSS). This is a conforming update to align with the Federal Register notice changing the office's name in the Statement of Organization, Functions, and Delegations of Authority that was published on June 5, 2023 (88 FR 36587), and includes updates based on the Elimination of the Tribal Non-Federal Share Requirement final rule issued on February 12, 2024 (89 FR 9784).

Dated: February 21, 2025.
Robert F. Kennedy, Jr.,
Secretary, Department of Health and Human Services.

[FR Doc. 2025-03147 Filed 2-26-25; 8:45 am]

BILLING CODE 4184-41-P